DEPARTMENT OF COMMERCE

International Trade Administration

Announcement of Trade Mission to the Caribbean Region in Conjunction With the Trade Americas—Business Opportunities in the Caribbean Region Conference

AGENCY: International Trade Administration, Department of Commerce.

ACTION: Notice.

SUMMARY: The United States Department of Commerce, International Trade Administration (ITA) is announcing the following upcoming trade mission that will be recruited, organized, and implemented by ITA:

Trade Mission to the Caribbean Region in conjunction with the Trade Americas—Business Opportunities in the Caribbean Region Conference—May 31-June 5, 2020

A summary of the mission is found below. Application information and more detailed mission information, including the commercial setting and sector information, can be found at the trade mission website: http://export.gov/trademissions.

Recruitment for the mission will be conducted in an open and public manner, including publication in the Federal Register, posting on the Commerce Department trade mission calendar (http://export.gov/trademissions) and other internet websites, press releases to general and trade media, direct mail, broadcast fax, notices by industry trade associations and other multiplier groups, and publicity at industry meetings, symposia, conferences, and trade shows.

FOR FURTHER INFORMATION CONTACT: Gemal Brangman, Trade Promotion Programs, Industry and Analysis, International Trade Administration, U.S. Department of Commerce, 1401 Constitution Avenue NW, Washington DC 20230; telephone (202) 482-3773.

The Following Conditions for Participation Will Be Used for Each Mission

Applicants must submit a completed and signed mission application and supplemental application materials, including adequate information on their products and/or services, primary market objectives, and goals for participation. If the Department of Commerce receives an incomplete application, the Department may either: Reject the application, request additional information/clarification, or take the lack of information into account when evaluating the application. If the requisite minimum number of participants is not selected for the mission by the recruitment deadline, the mission may be cancelled.

Each applicant must also certify that the products and services it seeks to export through the mission are either produced in the United States, or, if not, are marketed under the name of a U.S. firm and have at least fifty-one percent U.S. content by value. In the case of a trade association or organization, the applicant must certify that, for each firm or service provider to be represented by the association/organization, the products and/or services the represented firm or service provider seeks to export are either produced in the United States or, if not, marketed under the name of a U.S. firm and have at least 51% U.S. content by value.

A trade association/organization applicant must certify to the above for all of the companies it seeks to represent on the mission.

In addition, each applicant must:

• Certify that the export of the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for the Mission

Targeted mission participants are U.S. firms, services providers, and trade associations/organizations providing or promoting U.S. products and services, that have an interest in entering or expanding their business in the mission's destination countries. The following criteria will be evaluated in selecting participants:

• Suitability of the applicant's (or in the case of a trade association/organization, represented firms' or service providers') products or services to these markets;

• The applicant's (or in the case of a trade association/organization, represented firms' or service providers') potential for business in the markets, including likelihood of exports resulting from the mission; and

• Consistency of the applicant's (or in the case of a trade association/organization, represented firms' or service providers') goals and objectives with the stated scope of the mission.

Balance of company size and location may also be considered during the review process. Referrals from a political party or partisan political group or any information, including on the application, containing references to political contributions or other partisan political activities will be excluded from the application and will not be considered during the selection process. The sender will be notified of these exclusions.

Trade Mission Participation Fees

If and when an applicant is selected to participate on a particular mission, a payment to the Department of Commerce in the amount of the designated participation fee below is required. Upon notification of acceptance to participate, each applicant selected has 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas. Trade Mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Definition of Small and Medium Sized Enterprise

For purposes of assessing participation fees, an applicant is a small or medium-sized enterprise (SME) if it qualifies under the Small Business Administration's (SBA) size standards (https://www.sba.gov/document/support--table-size-standards), which vary by North American Industry Classification System (NAICS) Code. The SBA Size Standards Tool [https://www.sba.gov/size-standards/] can help you determine the qualifications that apply to your company.

Mission List: (additional information about the mission can be found at http://export.gov/trademissions).

Trade Mission to the Caribbean Region in Conjunction With the Trade Americas—Business Opportunities in the Caribbean Region Conference, Dates: May 31-June 5, 2020

Summary

The U.S. Department of Commerce, International Trade Administration, in partnership with the U.S. Department of State, is organizing a trade mission to the Caribbean region that will include participation in the Trade Americas—Business Opportunities in the Caribbean Region Conference in Bridgetown, Barbados on May 31-June 1, 2020.

The conference will focus on region-specific sessions, market access, fair trade, disaster preparedness and recovery, logistics, and trade financing resources as well as prearranged one-one-one consultations with US&FCS Commercial Officers and/or Department of State Economic/Commercial Officers with expertise in markets throughout the region. The mission is open to U.S. companies from a cross-section of industries with growth potential in the Caribbean region, but is focused on U.S. companies in best prospects sectors such as automotive parts and services, construction equipment/road building machinery/building products/infrastructure projects, medical equipment and devices/pharmaceuticals, ICT, energy equipment and services, safety and security equipment, hotel and restaurant equipment, franchising, manufacturing equipment, yachting industry/maritime services/sailing equipment, marine ports, aviation/airports, waste management, and water treatment and supply. All selected trade mission participants will attend the conference in Barbados and will have business-to-business meetings in up to two markets in the region, selecting from: Barbados/Eastern Caribbean, Dominican Republic, Guyana, Haiti, Jamaica, Suriname, The Bahamas, and Trinidad and Tobago.

The combination of participation in the Trade Americas—Business Opportunities in the Caribbean Region Conference and business-to-business matchmaking appointments in the Caribbean region markets, will provide participants with access to substantive information about and strategies for entering or expanding their business across the Caribbean region. The United States holds a dominant supplier position in the Caribbean region.

Proposed Timetable
Saturday, May 30, 2020 | Travel Day/Arrival in Barbados. Optional Local Tour/Activities.
Sunday, May 31, 2020 | Barbados. Afternoon: Registration, Briefing and U.S. Embassy Officer Consultations. Evening: Networking Reception.
Monday, June 1, 2020 | Barbados. Morning: Registration and Trade Americas—U.S.-Caribbean Business Conference. Afternoon: U.S. Embassy Officer Consultations. Evening: Networking Reception.
Optional
Tuesday, June 2, 2020 | Barbados/Eastern Caribbean Region Business-to-Business Meetings or Travel day.
June 3-5, 2020 | Travel day or Business-to-Business Meetings in: Option (A) Dominican Republic. Option (B) Guyana. Option (C) Haiti. Option (D) Jamaica. Option (E) Suriname. Option (F) The Bahamas. Option (H) Trinidad & Tobago.

Participation Requirements

All parties interested in participating in the U.S. Department of Commerce Trade Mission to the Caribbean Region must complete and submit an application package for consideration by the Department of Commerce. All applicants will be evaluated on their ability to meet certain conditions and best satisfy the selection criteria as outlined below.

A minimum of 20 and a maximum of 30 companies will be selected to participate in the mission on a first-come first-serve basis. During the registration process, applicants will be able to select what countries for which they would like to receive a brief market assessment. Once they receive their brief market assessment report, they will be able to select up to two markets to which they would like to travel for their business to business meetings.

All selected participants will attend the conference in Barbados and will have business-to-business meetings in up to two markets in the region.

The number of companies that may be selected for each country are as follows: 20 Companies for Barbados/Eastern Caribbean; 30 companies for the Dominican Republic; 5 companies for Guyana; 5 companies for Haiti; 5 companies for Jamaica; 5 companies for Suriname; 5 companies for The Bahamas; and 5 companies for Trinidad and Tobago.

The Trade Mission is open to U.S. companies already doing business in the region that are seeking to expand their market share and to those U.S. companies new to the region.

Fees and Expenses

After a company has been selected to participate on the mission, a payment to the Department of Commerce in the form of a participation fee is required.

For business-to-business meetings in one market, the participation fee will be $2,300 for a small or medium-sized enterprise (SME)* and $3,500 for a large firm.

For business-to-business meetings in two markets, the participation fee will be $3,300 for a small or medium-sized enterprise (SME) * and $4,500 for a large firm.

The mission participation fee includes a brief market assessment for the countries that were selected in the registration process, market briefings, networking receptions, lunch and coffee breaks during the conference, interpretation and transportation associated with the business-to-business meetings in the region, and U.S. Embassy officer consultations.

The Trade Americas—Business Opportunities in the Caribbean Region Conference registration fee is $650 for one participant from each firm.

There will be a $300 fee for each additional firm representative (large firm or SME) that wishes to participate in business-to-business meetings.

Timeframe for Recruitment and Application

Mission recruitment will be conducted in an open and public manner, including publication in the Federal Register, posting on the Commerce Department trade mission calendar on www.export.gov, the Trade Americas web page at http://export.gov/tradeamericas/index.asp, and other internet websites, press releases to the general and trade media, direct mail and broadcast fax, notices by industry trade associations and other multiplier groups and announcements at industry meetings, symposia, conferences, and trade shows.

Recruitment for the mission will begin immediately and conclude no later than Friday, April 17, 2020. The U.S. Department of Commerce will review applications and make selection decisions on a rolling basis until the maximum of 30 participants are selected. After April 17, 2020, companies will be considered only if space and scheduling constraints permit.

Contacts

U.S. Trade Americas Team Contact Information:

Delia Valdivia, Senior International Trade Specialist, U.S. Commercial Service—Los Angeles (West), CA, delia.valdivia@trade.gov, Tel: 310-597-8218

Diego Gattesco, Director, U.S. Commercial Service—Wheeling, WV, Diego.Gattesco@trade.gov, Tel: 304-243-5493

Caribbean Region Contact Information:

Bryan Larson, Regional Senior Commercial Officer, U.S. Commercial Service—U.S. Embassy Santo Domingo, Dominican Republic, Bryan.Larson@trade.gov

Sheila Diaz, Senior Commercial Specialist, U.S. Commercial Service—U.S. Embassy Santo Domingo, Dominican Republic, Sheila.Diaz@trade.gov

Tiara Hampton-Diggs,
Program Specialist, Trade Promotion Programs.

[FR Doc. 2019-27013 Filed 12-13-19; 8:45 am]

BILLING CODE 3510-DR-P